SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below: (OMB)

Office of Management and Budget (OMB), Attn: Desk Officer for SSA, New Executive Building, Room 10235, 725 17th St., NW, Washington, DC 20503, Fax: 202-395-6974.

Social Security Administration (SSA), DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at (410)-965-0454 or by writing to the address listed above.

1. Pain Report-Child—20 CFR 416.912 and 416.1512—0960-0540. The information collected by form SSA-3371-BK will be used to obtain the types of information specified in the regulations, and to provide disability interviewers (and applicants/claimants in self-help situations) with a convenient means of recording the information obtained. This information is used by the State disability determination services (DDS) adjudicators and administrative law judges to assess the effects of symptoms on functionality for determining disability under the Social Security Act. The respondents are applicants for Supplemental Security Income (SSI) benefits.

Type of Request: Extension of an OMB-approved information collection.

Number of Respondents: 250,000.

Frequency of Response: 1.

Average Burden Per Response: 15 minutes.

Estimated Annual Burden: 62,500 hours.

2. Medical Permit Parking Application—41 CFR 101-20.104-2—0960-0624. SSA issues medical parking assignments at SSA-owned and -leased facilities to individuals who have a medical condition which meets the criteria for medical parking. In order to issue a medical parking permit, SSA must obtain medical evidence from the applicant's physician. Form SSA-3192-F4 is used to collect this information. SSA then uses the information to determine whether the individual qualifies for a medical parking permit and whether or not to issue the permit. The respondents are physicians of applicants for medical parking permits.

Type of Request: Extension of an OMB-approved information collection.

Number of Respondents: 144.

Frequency of Response: 1.

Average Burden Per Response: 60 minutes.

Estimated Annual Burden: 144 hours.

3. Certification of Prison Records by Prison Officials—20 CFR 422.107—0960-NEW. When a valid agreement is in place, prison officials provide to SSA specific information to attest to the identity of certain incarcerated U.S. citizens who need replacement Social Security cards. The information the prison officials provide will be taken from the official prison files and will be used by SSA to establish the applicant's identity in the Social Security card process. The respondents are prison officials who certify identity of prisoners applying for replacement Social Security cards.

Type of Request: New information collection.

Number of Respondents: 1,000.

Frequency of Response: 200.

Average Burden Per Response: 3 minutes.

Estimated Annual Burden: 10,000 hours.

II. The information collections listed below have been submitted to OMB for clearance. Your comments on the information collections would be most useful if received by OMB and SSA within 30 days from the date of this publication. You can obtain a copy of the OMB clearance packages by calling the SSA Reports Clearance Officer at (410) 965-0454, or by writing to the address listed above.

1. Blood Donor Locator Service—20 CFR 401.200—0960-0501. Section 1141(a) of the Social Security Act and 42 U.S.C. 1320b-11 require that participating State agencies provide the SSA Blood Donor Locator Service (BDLS) with specific information on blood donors who have tested positive for Human Immunodeficiency Virus (HIV). SSA uses the information to identify the donor and to locate the donor's address in SSA records for the purpose of notifying the states and assuring that states meet regulatory requirements to qualify for using the BDLS. SSA will retain no record of the request or the information after processing has been completed. The respondents are participating State agencies acting on behalf of authorized blood donor facilities.

Type of Request: Extension of an OMB-approved information collection.

Number of Respondents: 10.

Frequency of Response: 5.

Average Burden Per Response: 15 minutes.

Estimated Annual Burden: 13 hours.

2. Discrimination Complaint Form—0960-0585. The information collected on form SSA-437 is used by SSA to investigate and formally resolve complaints of discrimination based on race, color, national origin, sex, age, religion, and retaliation in any program or activity conducted by SSA. A person who believes that he or she has been discriminated against on any of the above bases may file a written complaint of discrimination. The information will be used to identify the complainant; identify the alleged discriminatory act; ascertain the date of such alleged act; obtain the identity of the individual(s)/facility/component that allegedly discriminated; and ascertain other relevant information that would assist in the investigation and resolution of the complaints. The respondents are individuals who allege discrimination on the grounds described above.

Type of Request: Extension of an OMB-approved information collection.

Number of Respondents: 98.

Frequency of Response: 1.

Average Burden Per Response: 60 minutes.

Estimated Annual Burden: 98 hours.

3. Pre-1957 Military Service Federal Benefit Questionnaire—20 CFR 404.1301-1371—0960-0120. Form SSA-2512 collects data used in the claims adjudication process to grant gratuitous military wage credits, when applicable, and solicits sufficient information to make a determination of eligibility. The respondents are individuals who are applying for Social Security benefits on the record of a wage earner with pre-1957 military service.

Type of Request: Extension of an OMB-approved information collection.

Number of Respondents: 12,000.

Frequency of Response: 1.

Average Burden Per Response: 10 minutes.

Estimated Average Burden: 2,000 hours.

4. Application for Supplemental Security Income—20 CFR 416.305-335—0960-0229. The information collected using Form SSA-8000-BK (or during a personal interview) is needed and is used to determine eligibility for SSI and the amount of benefits payable to the applicant. The respondents are applicants for SSI payments.

Type of Request: Extension of an OMB-approved information collection.

Number of Respondents: 1,128,374.

Frequency of Response: 1.

Average Burden Per Response: 40 minutes.

Estimated Annual Burden: 752,249 hours.

5. Statement of Household Expenses and Contributions—20 CFR 416.1130-1148—0960-0456. Eligibility for Supplemental Security Income (SSI) is based on need. A factor for determining need is whether an individual receives in-kind support and maintenance in the form of food and shelter provided by other persons. SSA collects information on form SSA-8011-F3 to determine the existence and amount of in-kind support and maintenance received by a claimant/beneficiary of SSI. SSA uses the information to determine eligibility and payment amount under this program. The respondents are members of SSI claimants'/beneficiaries' households.

Type of Request: Revision of an OMB-approved information collection.

Number of Respondents: 400,000.

Frequency of Response: 1.

Average Burden Per Response: 15 minutes.

Estimated Annual Burden: 100,000 hours.

Dated: December 16, 2003.
Elizabeth A. Davidson,
Reports Clearance Officer, Social Security Administration.

[FR Doc. 03-31521 Filed 12-22-03; 8:45 am]

BILLING CODE 4191-02-P